DEPARTMENT OF COMMERCE

National Oceanic and Atmospheric Administration

[I.D. 042607A]

Marine Mammals; File No. 727-1915

AGENCY: National Marine Fisheries Service (NMFS), National Oceanic and Atmospheric Administration (NOAA), Commerce.

ACTION: Notice; receipt of application.

SUMMARY: Notice is hereby given that Scripps Institute of Oceanography, University of California, 8635 Discovery Way, La Jolla, CA 92093, has applied in due form for a permit to conduct research on marine mammals for scientific research purposes.

DATES: Written, telefaxed, or e-mail comments must be received on or before June 4, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 727-1915.

FOR FURTHER INFORMATION CONTACT: Jaclyn Daly or Kate Swails, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests authority to study 31 cetacean species including blue (Balaenoptera musculus), fin (Balaenoptera physalus), and humpback (Megaptera novaeangliae) whales. The purpose of the research is to improve baseline data on marine mammal status, abundance, stock structure, life history, seasonal distribution, and acoustic communication and behavior of non-ESA and ESA listed species. Activities include photo-identification, biopsy, suction-cup tagging, and fecal sampling. Research would be conducted in the Pacific Ocean off the west coast of the United States and around the Hawaiian Islands. No mortality of animals is requested. The permit would be issued for five years.

Concurrent with the publication of this notice in the Federal Register, NMFS is forwarding copies of this application to the Marine Mammal Commission and its Committee of Scientific Advisors.

Dated: April 26, 2007.
P. Michael Payne,
Chief, Permits, Conservation and Education Division, Office of Protected Resources, National Marine Fisheries Service.

[FR Doc. E7-8398 Filed 5-2-07; 8:45 am]

BILLING CODE 3510-22-S